DEPARTMENT OF DEFENSE

Office of the Secretary

Threat Reduction Advisory Committee; Notice of Federal Advisory Committee Meeting

AGENCY: Department of Defense, Office of the Under Secretary of Defense (Acquisition, Technology and Logistics).

ACTION: Federal Advisory Committee Meeting Notice.

SUMMARY: Under the provisions of the Federal Advisory Committee Act of 1972 (5 U.S.C., Appendix, as amended) and the Government in the Sunshine Act of 1976 (5 U.S.C. 552b, as amended) the Department of Defense announces the following Federal advisory committee meeting of the Threat Reduction Advisory Committee (hereafter referred to as “the Committee”).

DATES: Thursday, December 6, from 8:30 a.m. to 5:00 p.m. and Friday, December 7, 2012, 8:30 a.m. to 4:00 p.m.

ADDRESSES: Conference Room 3A912A, The Pentagon.

FOR FURTHER INFORMATION CONTACT: Mr. William Hostyn, DoD, Defense Threat Reduction Agency/J2/5/8R-ACP, 8725 John J. Kingman Road, MS 6201, Fort Belvoir, VA 22060-6201. Email: william.hostyn@dtra.mil. Phone: (703) 767-4453. Fax: (703) 767-4206.

SUPPLEMENTARY INFORMATION: Purpose of Meeting: To obtain, review and evaluate classified information related to the Committee's mission to advise on technology security, combating weapons of mass destruction (C-WMD), counter terrorism and counter proliferation.

Agenda: Beginning at 8:30 a.m., December 6, and through the end of the meeting on December 7, the committee will receive classified Combating Weapons of Mass Destruction (C-WMD) briefings from the Department of Defense and the Intelligence Community. The committee will also hold classified discussions on Middle East WMD concerns, Addressing C-WMD Capabilities Needs and Gaps for 2020, the Cooperative Threat Reduction Program and the Way Forward, the Global C-WMD Awareness System, and Securing Special Nuclear Materials.

Meeting Accessibility: Pursuant to 5 U.S.C. 552b, as amended, and 41 CFR 102-3.155, the Department of Defense has determined that the meeting shall be closed to the public. The Under Secretary of Defense for Acquisition, Technology and Logistics, in consultation with the DoD FACA Attorney, has determined in writing that the public interest requires all sessions of this meeting be closed to the public because the discussions will be concerned with classified information and matters covered by Title 5, United States Code, Section 552b(c)(1) and are inextricably intertwined with the unclassified material which cannot reasonably be segregated into separate discussions without disclosing secret material.

Committee's Designated Federal Officer or Point of Contact: Mr. William Hostyn, DoD, Defense Threat Reduction Agency/J/2/5/8R-ACP, 8725 John J. Kingman Road, MS 6201, Fort Belvoir, VA 22060-6201. Email: william.hostyn@dtra.mil. Phone: (703) 767-4453. Fax: (703) 767-4206.

Written Statements: Pursuant to 41 CFR 102-3.105(j) and 102-3.140 and section 10(a)(3) of the Federal Advisory Committee Act of 1972, the public or interested organizations may submit written statements to the membership of the Committee at any time or in response to the stated agenda of a planned meeting. Written statements should be submitted to the Committee's Designated Federal Officer. The Designated Federal Officer's contact information is listed in the paragraph immediately above or it can be obtained from the General Services Administration's FACA Database— https://www.fido.gov/facadatabase/public.asp.

Written statements that do not pertain to a scheduled meeting of the Committee may be submitted at any time. However, if individual comments pertain to a specific topic being discussed at a planned meeting then these statements must be submitted no later than five business days prior to the meeting in question. The Designated Federal Officer will review all submitted written statements and provide copies to all committee members.

Dated: November 15, 2012.
Aaron Siegel,
Alternate OSD Federal Register Liaison Officer, Department of Defense.

[FR Doc. 2012-28241 Filed 11-20-12; 8:45 am]

BILLING CODE 5001-06-P